DEPARTMENT OF THE TREASURY

United States Mint

Pricing for the 2020 Basketball Hall of Fame Colorized Coins

AGENCY: United States Mint, Department of the Treasury.

ACTION: Notice.

SUMMARY: The United States Mint is announcing pricing for the 2020 Basketball Hall of Fame Commemorative Coin Program as follows:

Coin | Regular price
Colorized Silver Dollar | $95.00
Colorized Clad Half Dollar | 55.00

FOR FURTHER INFORMATION CONTACT: Rosa Williams, Program Manager for Sales and Marketing; United States Mint; 801 9th Street NW; Washington, DC 20220; or call 202-354-7500.

Authority: Public Law 115-343.

Eric Anderson,
Executive Secretary, United States Mint.

[FR Doc. 2020-15171 Filed 7-13-20; 8:45 am]

BILLING CODE P